ENVIRONMENTAL PROTECTION AGENCY

40 CFR Part 180

[EPA-HQ-OPP-2020-0053; FRL-10015-86]

Receipt of a Pesticide Petition Filed for Residues of Pesticide Chemicals in or on Various Commodities (September 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before November 27, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Notice of Filing—New Tolerance Exemptions for Inerts (Except PIPS)

PP IN-11383. (EPA-HQ-OPP-2020-0243). Spring Regulatory Sciences (6620 Cypresswood Dr, Suite 250, Spring, TX 77379) on behalf of Sasol Chemicals (USA) LLC (12120 Wickchester Lane, Houston, TX 77224) requests to establish an exemption from the requirement of a tolerance for residues of isooctanol (CAS Reg. No. 26952-21-6); nonanol, branched and linear (CAS Reg. No. 68515-81-1); undecanol, branched and linear (CAS Reg. No. 128973-77-3); undecanol, branched (CAS Reg. No. 203743-00-4); 2-Butyl-1-octanol (CAS Reg. No. 3913-02-8); isotridecanol (CAS Reg. No. 27458-92-0); alcohols C10-C16 (CAS Reg. No. 67762-41-8); alcohols, C12-C13 branched and linear (CAS Reg. No. 740817-83-8); 2-Hexyl-1-decanol (CAS Reg. No. 2425-77-6); alcohols, C14-18 (CAS Reg. No. 67762-30-5); alcohols, C14-C15 branched and linear (CAS Reg. No. 120944-67-4); alcohols, C16-18 (CAS Reg. No. 67762-27-0); alcohols, C16-C17 branched and linear (CAS Reg. No. 1334422-17-1); 2-Octyl-1-decanol (CAS Reg. No. 45235-48-1); 2-Hexyl-1-dodecanol (CAS Reg. No. 110225-00-8); 2-Octyl-1-dodecanol (CAS Reg. No. 5333-42-6); 2-Decyl-1-tetradecanol (CAS Reg. No. 58670-89-6); 2-Dodecyl-1-hexadecanol (CAS Reg. No. 72388-18-2); 2-Tetradecyl-1-octadecanol (CAS Reg. No. 32582-32-4) when used as inert ingredients (carrier/adjuvant and coating agent/binder) in pesticide formulations applied to growing crops pre- and post-harvest under 40 CFR 180.910, in/on animals under 40 CFR 180.930 and in antimicrobial formulations applied to food-contact surfaces in public eating places, dairy-processing equipment, and food-processing equipment and utensils under 40 CFR 180.940(a). The petitioner believes no analytical method is needed because it is not required for an exemption from the requirement of a tolerance. Contact: RD.

Notice of Filing—New Tolerances for Non-Inerts

1. PP 0F8836. (EPA-HQ-OPP-2020-0449). Dow AgroSciences LLC, 9330 Zionsville Road, Indianapolis, IN, requests to establish a tolerance in 40 CFR part 180 for residues of the fungicide florylpicoxamid in or on barley, bran at 0.2 parts per million (ppm); barley, grain at 0.05 ppm; barley, hay at 2.0 ppm; barley, straw at 0.9 ppm; beans, dried shelled (except soybean), subgroup 6C, straw at 0.9 ppm; beet, sugar, dried pulp at 0.4 ppm; beet, sugar, roots at 0.05 ppm; beet, sugar, tops at 0.3 ppm; pea and bean, dried shelled, except soybean, subgroup 6C at 0.02 ppm; pea, dried shelled, hay at 8.0 ppm; pea, dried shelled, vines at 3.0 ppm; rapeseed subgroup 20A, fodder/straw at 2.0 ppm; rapeseed subgroup 20A, seed at 0.04 ppm; wheat, aspirated grain fractions at 0.1 ppm; wheat, bran at 0.05 ppm; wheat, forage at 2.0 ppm; wheat, grain at 0.02 ppm; wheat, hay at 4.0 ppm; wheat, straw at 0.3 ppm and in or on the raw agricultural commodity cattle, fat at 0.02 ppm; cattle, meat at 0.02 ppm; cattle, meat byproducts at 0.02 ppm; egg at 0.02 ppm; goat, fat at 0.02 ppm; goat, meat at 0.02 ppm; goat, meat byproducts at 0.02 ppm; hog, fat at 0.02 ppm; hog, meat at 0.02 ppm; hot, meat byproduct at 0.02 ppm; horse, fat at 0.02 ppm; horse, meat at 0.02 ppm; horse, meat byproduct at 0.02 ppm; milk at 0.02 ppm; poultry, fat at 0.02 ppm; poultry, liver at 0.02 ppm; poultry, muscle at 0.02 ppm; sheep, fat at 0.02 ppm; sheep, meat at 0.02 ppm; sheep, meat byproducts at 0.02 ppm. The analytical method 181487, “Validation of Multiresidue Method for XDE-659 and its Metabolite (X12485649) in Crop and Animal Tissues”, is used to measure and evaluate the chemical florylpicoxamid for enforcement purposes and the data generating method 190564, “An Analytical Method for the Determination of XDE-659 and its Metabolites X12485649, X12563767, X12641685 and X12717067 in Crop Matrices”, was validated for use on processed fractions within the individual magnitude of residue studies. Contact: RD.

2. PP 0F8869. (EPA-HQ-OPP-2020-0511). McLaughlin Gormley King Company D/B/A MGK, 8810 10th Avenue North, Minneapolis, MN 55427-4319, requests to establish a tolerance for residues of the insecticide clothianidin in or on Food Handling Establishments at 0.01 ppm. Detailed analytical methods can be found in the Determination of Pesticide Residues in Food Commodities Following ULV Fogging Treatment of a Simulated Food Processing Facility. Contact: RD.

3. PP 0F8870. (EPA-HQ-OPP-2020-0512). McLaughlin Gormley King Company D/B/A MGK, 8810 10th Avenue North, Minneapolis, MN 55427-4319, requests to establish tolerances for residues of the insecticide pyriproxyfen in or on eggs at 0.01 ppm; poultry (except poultry fat) at 0.01 ppm; and poultry, fat at 0.04 ppm. Detailed analytical methods can be found in the Determination of Pesticide Residues in Eggs and Tissues of Laying Hens Following Indoor Fogging Administration. Contact: RD.

Authority: 21 U.S.C. 346a.

Dated: October 9, 2020.
Delores Barber,
Director, Information Technology and Resources Management Division, Office of Pesticide Programs.

[FR Doc. 2020-23089 Filed 10-26-20; 8:45 am]

BILLING CODE 6560-50-P